DEPARTMENT OF AGRICULTURE

Agricultural Marketing Service

[Document Number AMS-NOP-11-0014; NOP-11-05]

Notice of Meeting of the National Organic Standards Board

AGENCY: Agricultural Marketing Service, USDA.

ACTION: Notice correction.

SUMMARY: In accordance with the Federal Advisory Committee Act, as amended, the Agricultural Marketing Service (AMS) announced on March 4, 2011 a forthcoming meeting of the National Organic Standards Board (NOSB) (76 FR 12013). The March 4, 2011 notice provided for five-minute public comment slots. Due to the overwhelming number of people who have signed up to present comments, AMS is informing the public that each public comment slot will be three minutes.

DATES: The NOSB meeting dates are Tuesday, April 26, 2011, 8 a.m. to 5:30 p.m.; Wednesday, April 27, 2011, 8 a.m. to 5 p.m.; Thursday, April 28, 2011, 8 a.m. to 5 p.m.; and Friday, April 29, 2011, 8 a.m. to 4:45 p.m.

Dated: April 22, 2011.
David R. Shipman,
Associate Administrator, Agricultural Marketing Service.

[FR Doc. 2011-10196 Filed 4-26-11; 8:45 am]

BILLING CODE 3410-02-P